DEPARTMENT OF THE INTERIOR

Bureau of Land Management

[LLCAC01000 L16600000.XZ0000 15XL1109AF LXSIOVHD0000]

Call for Nominations for Central California Resource Advisory Council

AGENCY: Bureau of Land Management, Interior.

ACTION: Notice.

SUMMARY: The Bureau of Land Management (BLM) is seeking nominations for the Central California District Resource Advisory Council (RAC). The RAC advises BLM officials from the Hollister, Mother Lode, Bakersfield, Ukiah and Bishop field offices. The Central California District will receive public nominations for 30 days from the date this notice is published.

DATES: A completed nomination form and accompanying nomination/recommendation letters must be received at the address listed below no later than December 28, 2015.

ADDRESSES: Completed applications should be sent to the Bureau of Land Management, 5152 Hillsdale Circle, El Dorado Hills, CA 95762; attn: David Christy, email dchristy@blm.gov.

FOR FURTHER INFORMATION CONTACT: David Christy, Public Affairs Officer, Central California District, 5152 Hillsdale Circle, El Dorado Hills, CA 95762, phone (916) 941-3146, or email: dchristy@blm.gov. Persons who use a telecommunications device for the deaf (TDD) may call the Federal Information Relay Service (FIRS) at 1-800-877-8339 to leave a message or question for the above individual. The FIRS is available 24 hours a day, seven days a week. Replies are provided during normal business hours.

SUPPLEMENTARY INFORMATION: The Secretary of the Interior established the Central California RAC pursuant to section 309 of the Federal Land Policy and Management Act (FLPMA) of 1976 (43 U.S.C. 1739) and in conformity with the Federal Advisory Committee Act (FACA) of 1972 (5 U.S.C. Appendix 2). The 12-member council advises the Secretary of the Interior, through the BLM, on a variety of planning and management issues associated with public land management in the Central California District. The Secretary appoints persons to the Central California RAC who are representatives of the various major citizen interests pertaining to land-use planning and management of the lands under BLM management in the Central California District.

Each RAC member will be a person who, as a result of training and experience, has knowledge or special expertise which qualifies him or her to provide advice from among the categories of interest listed below. As appropriate, certain committee members may be appointed as Special Government Employees. Special Government Employees serve on the committee without compensation, and are subject to financial disclosure requirements in the Ethics in Government Act and 5 CFR part 2634.

This notice, published pursuant to 43 CFR 1784.4-1, solicits public nominations to fill four positions on the committee. Any individual or organization may nominate one or more persons to serve on the RAC. Individuals may nominate themselves for RAC membership.

Nomination forms may be obtained from the Central California District Office, address listed above. Nominations packages must include a letter of nomination, a completed nomination form, letters of reference from the represented interest groups or organizations associated with the interests represented by the candidate, and any other information that speaks to the candidate's qualifications.

The four open member positions are:

Category Two (one position)—Representatives of nationally or regionally recognized environmental organizations, archaeological and historical organizations, dispersed recreation activities, and wild horse and burro organizations.

Category Three (three positions)—Representatives of State, county, or local elected office; representatives and employees of a State agency responsible for the management of natural resources; representatives of Indian tribes within or adjacent to the area for which the RAC is organized; representatives and employees of academic institutions who are involved in natural sciences; and the public-at-large.

The specific category the nominee would represent should be identified in the letter of nomination and in the nomination form. The BLM-California State Director and District Manager will review the nomination forms and letters of reference. The State Director shall confer with the Governor of the State of California on potential nominations, then will forward recommended nominations to the Secretary of the Interior, who has responsibility for making the appointments.

Members will serve without monetary compensation, but will be reimbursed for travel and per diem expenses at current U.S. General Services Administration rates. The Committee will meet at least twice a year. Additional meetings may be called by the Designated Federal Officer.

The Obama Administration prohibits individuals who are currently federally registered lobbyists to serve on all FACA and non-FACA boards, committees or councils.

Authority: 43 CFR 1784.4-1.

David Christy,
District Public Affairs Officer.

[FR Doc. 2015-30005 Filed 11-24-15; 8:45 am]

BILLING CODE 4310-40-P